ENVIRONMENTAL PROTECTION AGENCY

[FRL-9190-2]

Stakeholder Meeting Regarding Re-Evaluation of Currently Approved Total Coliform Analytical Methods

AGENCY: Environmental Protection Agency (EPA).

ACTION: Notice.

SUMMARY: The Environmental Protection Agency (EPA or Agency) is hosting three public Web conferences during which the Agency will have a technical dialogue with stakeholders regarding re-evaluation of currently approved Total Coliform Rule (TCR) analytical methods. At these meetings, stakeholders will be given an opportunity to discuss potential elements of a method re-evaluation study, such as developing a reference coliform/non-coliform library for use in evaluation of method performance, setting method performance acceptance criteria, and/or revising the Alternate Test Protocol (ATP). These meetings are follow-up to the public stakeholder meeting held on May 11-12, 2010. The proposed Revised Total Coliform Rule (RTCR) was published in the Federal Register on July 14, 2010.

DATES: The first public Web conference will be held on Wednesday, September 8, 2010, (10 a.m. to 3 p.m., Eastern Time (ET). To register and receive the call-in information and meeting agenda for the September 8th Web conference, attendees should contact Cesar Cordero at 202-564-3716 or by e-mail to cordero.cesar@epa.gov no later than September 1, 2010. The second and third of these Web conference calls will be held on October 5, and November 4, 2010 (10 a.m. to 3 p.m., ET). To register and receive call-in information and meeting agendas for the October 5 and November 4 meetings, participants should contact Cesar Cordero no later than September 29 and October 27, respectively.

FOR FURTHER INFORMATION CONTACT: Participants should contact Cesar Cordero at 202-564-3716 or by e-mail to cordero.cesar@epa.gov for general inquiries about this meeting and teleconference information. Participants should contact Sandhya Parshionikar at 513-569-7123 or by e-mail to parshionikar.sandhya@epa.gov for technical information.

SUPPLEMENTARY INFORMATION: Special Accommodations: Please contact Cesar Cordero at (202) 564-3716 or by e-mail to cordero.cesar@epa.gov for information on access or special accommodations for individuals with disabilities. Please contact Mr. Cordero at least 10 days prior to the meeting to give EPA time to address your request.

Dated:August 10, 2010.
Sheila E. Frace,
Acting Director, Office of Ground Water and Drinking Water.

[FR Doc. 2010-20178 Filed 8-13-10; 8:45 am]

BILLING CODE 6560-50-P